DEPARTMENT OF COMMERCE

National Oceanic and Atmospheric Administration

50 CFR Part 622

[Docket No. 120404257-3325-02; RTID 0648-XD427]

Fisheries of the Caribbean, Gulf of Mexico, and South Atlantic; 2023 Commercial Hook-and-Line Closure for Golden Tilefish in the South Atlantic

AGENCY: National Marine Fisheries Service (NMFS), National Oceanic and Atmospheric Administration (NOAA), Commerce.

ACTION: Temporary rule; closure.

SUMMARY: NMFS implements an accountability measure for the commercial hook-and-line component of golden tilefish in the South Atlantic exclusive economic zone (EEZ). NMFS projects that commercial landings of golden tilefish harvested by hook-and-line are projected to reach the commercial component quota in the 2023 fishing year. Accordingly, NMFS closes the commercial hook-and-line component for golden tilefish in the South Atlantic EEZ for the remainder of the 2023 fishing year to protect the golden tilefish resource.

DATES: This temporary rule is effective from 12:01 a.m. eastern time on October 31, 2023, through December 31, 2023.

FOR FURTHER INFORMATION CONTACT: Mary Vara, NMFS Southeast Regional Office, telephone: 727-824-5305, email: mary.vara@noaa.gov.

SUPPLEMENTARY INFORMATION: The snapper-grouper fishery of the South Atlantic includes golden tilefish and is managed under the Fishery Management Plan for the Snapper-Grouper Fishery of the South Atlantic Region (FMP). The South Atlantic Fishery Management Council and NMFS prepared the FMP, and the FMP is implemented by NMFS under the authority of the Magnuson-Stevens Fishery Conservation and Management Act (Magnuson-Stevens Act) by regulations at 50 CFR part 622. All weights in this temporary rule are given in gutted weight.

The commercial sector for golden tilefish has two components, each with its own quota: The hook-and-line and longline components (50 CFR 622.190(a)(2)). The commercial annual catch limit (ACL) for golden tilefish is allocated 25 percent to the hook-and-line component and 75 percent to the longline component. The total commercial ACL (equivalent to the total commercial quota) for golden tilefish is 331,740 lb (150,475 kg). The commercial ACL (equivalent to the commercial quota) for the hook-and-line component is 82,935 lb (37,619 kg).

Under 50 CFR 622.193(a)(1)(i), NMFS is required to close the commercial hook-and-line component for golden tilefish when its commercial ACL has been reached, or is projected to be reached, through a notification filed with the Office of the Federal Register. NMFS projects that commercial landings of South Atlantic golden tilefish by the hook-and-line component will reach the ACL by October 31, 2023. Accordingly, the commercial hook-and-line component of South Atlantic golden tilefish is closed on October 31, 2023.

For the current fishing year, NMFS has also closed the commercial longline component on April 7, 2023, and the recreational sector on July 17, 2023, for golden tilefish through 2023 (88 FR 20079, April 5, 2023; 88 FR 45369, July 17, 2023). Therefore, because the commercial longline component and recreational sector are already closed, and NMFS is closing the commercial hook-and-line component through this temporary rule, all harvest and possession of South Atlantic golden tilefish in or from the EEZ is prohibited from the effective date of this temporary rule through the end of 2023.

The operator of a vessel issued a valid Federal commercial vessel permit for South Atlantic snapper-grouper with golden tilefish on board harvested by hook-and-line must have landed and bartered, traded, or sold such golden tilefish prior to 12:01 a.m. eastern time on October 31, 2023. During the closure, the sale or purchase of golden tilefish harvested from the EEZ is prohibited. The prohibition on sale or purchase does not apply to the sale or purchase of golden tilefish that were harvested by hook-and-line, landed ashore, and sold before 12:01 a.m. eastern time on October 31, 2023, and were held in cold storage by a dealer or processor. For a person on board a vessel for which a Federal commercial or charter vessel/headboat permit for the South Atlantic snapper-grouper fishery has been issued, the recreational bag and possession limits and the sale and purchase prohibitions during the commercial closure for golden tilefish apply regardless of whether the fish are harvested in state or Federal waters, as specified in 50 CFR 622.190(c)(1)(ii).

Classification

NMFS issues this action pursuant to section 305(d) of the Magnuson-Stevens Act. This action is required by 50 CFR 622.193(a)(1), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the regulations associated with the commercial closure of the golden tilefish hook-and-line component have already been subject to notice and public comment, and all that remains is to notify the public of the closure. Such procedures are also contrary to the public interest because of the need to immediately implement the closure to protect the golden tilefish resource and minimize the risk of exceeding the commercial ACL. Prior notice and opportunity for public comment would require time, which would allow for additional commercial landings, and could therefore result in exceedance of the sector ACL.

For the reasons stated earlier, the Assistant Administrator also finds good cause to waive the 30-day delay in the effectiveness of this action under 5 U.S.C. 553(d)(3).

Authority: 16 U.S.C. 1801 et seq.

Dated: October 24, 2023.
Jennifer M. Wallace,
Acting Director, Office of Sustainable Fisheries, National Marine Fisheries Service.

[FR Doc. 2023-23835 Filed 10-25-23; 4:15 pm]

BILLING CODE 3510-22-P